DEPARTMENT OF THE TREASURY

Internal Revenue Service

26 CFR Part 1

[TD 9270]

RIN 1545-AW72

Reporting of Gross Proceeds Payments to Attorneys; Correction

AGENCY: Internal Revenue Service (IRS), Treasury.

ACTION: Correction to final regulations.

SUMMARY: This document contains corrections to final regulations (TD 9270) that were published in the Federal Register on Thursday, July 13, 2006 (71 FR 39548) relating to the reporting of payments of gross proceeds to attorneys.

DATES: These corrections are effective July 13, 2006.

FOR FURTHER INFORMATION CONTACT: Nancy Rose, (202) 622-4940 (not a toll-free number).

SUPPLEMENTARY INFORMATION:

Background

The correction notice that is the subject of this document is under sections 6041 and 6045 of the Internal Revenue Code.

Need for Correction

As published, final regulations (TD 9270) contain errors that may prove to be misleading and are in need of clarification.

Correction of Publication

Accordingly, the publication of the final regulations (TD 9270), which was the subject of FR Doc. E6-11010, is corrected as follows:

1. On page 39548, column 3, in the preamble, under the paragraph heading “Paperwork Reduction Act”, second paragraph of the column, line 5, the language “payments aggregating $600 of more from” is corrected to read “payments aggregating $600 or more from”.

2. On page 39548, column 3, in the preamble, under the paragraph heading “Background”, line 3, the language “and 6045 of the (Code). These” is corrected to read “and 6045 of the Code. These”.

3. On page 39550, column 2, in the preamble, under the paragraph heading “Summary of Comments”, second paragraph of the column, line 3 from bottom, the language “section although attorneys fees paid to” is corrected to read “section although attorneys' fees paid to”.

Guy R. Traynor,
Chief, Publications and Regulations Branch, Legal Processing Division, Associate Chief Counsel (Procedure and Administration).

[FR Doc. E6-13420 Filed 8-15-06; 8:45 am]

BILLING CODE 4830-01-P